ENVIRONMENTAL PROTECTION AGENCY

[Docket ID No. EPA-HQ-ORD-2014-0211; FRL-9943-69-ORD]

Announcement on the Availability of the IRIS Program General Comments Docket; Announcement of the IRIS Program Public Science Meetings for Calendar Year 2016

AGENCY: Environmental Protection Agency (EPA).

ACTION: Notice of the availability of the IRIS Program General Comments Docket and the IRIS Program public science meetings for calendar year 2016.

SUMMARY: The Environmental Protection Agency (EPA) is announcing the availability of an IRIS Program General Comments Docket (Docket ID #EPA-HQ-ORD-2014-0211) open for public comments that have broad applicability to the IRIS Program. This docket was opened in 2014 and will remain open continuously. Stakeholders interested in submitting general comments to the IRIS Program are encouraged to use this docket. EPA is also announcing the dates for the 2016 IRIS public science meetings. Meetings will be held on May 10, 2016; June 29-30, 2016; September 7-8, 2016; and October 26-27, 2016. All future notices about the availability of draft IRIS assessments for public comment (Step 4a) or IRIS public science meetings will be posted on the IRIS Web site at http://www.epa.gov/iris. Comments related to specific IRIS chemicals should continue to be directed to the appropriate chemical-specific docket (see the IRIS Web site at www.epa.gov/iris). To determine the status of specific IRIS assessments, visit the “Assessments in Development” page on the IRIS Web site. The IRIS Program is committed to open communication and maintains a public listserv to make program announcements. For information about how to register for the IRIS Bulletin listserv or for the latest information on the availability of materials for ongoing IRIS assessments, visit http://www.epa.gov/iris.

DATES: Meetings will be held on May 10, 2016; June 29-30, 2016; September 7-8, 2016; and October 26-27, 2016

ADDRESSES: IRIS' Web site at http://www.epa.gov/iris or the public docket at http://www.regulations.gov, Docket ID: EPA-HQ-ORD-2014-0211.

FOR FURTHER INFORMATION CONTACT: For information on submitting comments to this docket, contact the ORD Docket at the EPA Headquarters Docket Center; telephone: 202-566-1752; facsimile: 202-566-9744; or email: Docket_ORD@epa.gov.

For technical information on the IRIS Program, contact Vicki Soto, NCEA; telephone: 703-347-0290; facsimile: 703-347-8689; or email: soto.vicki@epa.gov.

SUPPLEMENTARY INFORMATION:

I. Information About IRIS

EPA's IRIS Program is a human health assessment program that evaluates quantitative and qualitative risk information on effects that may result from exposure to chemicals found in the environment. Through the IRIS Program, EPA provides the highest quality science-based human health assessments to support the Agency's regulatory activities and decisions to protect public health. The IRIS database contains information on chemicals that can be used to support the first two steps (hazard identification and dose-response evaluation) of the human health risk assessment process. When supported by available data, IRIS provides health effects information and toxicity values for health effects (including cancer and effects other than cancer). Government and others combine IRIS toxicity values with exposure information to characterize public health risks of chemicals; this information is then used to support risk management decisions designed to protect public health.

II. Information on the IRIS Program General Comments Docket

EPA created the IRIS Program General Comments Docket in 2014, based in part on stakeholder's requests, to allow the public to submit comments that have broad applicability to the IRIS Program. Commenters are asked to identify themselves and provide contact information to promote an open dialogue on issues. Examples of the types of comments appropriate for this docket include comments on general scientific issues that apply to all assessments as well as other general comments (not chemical-specific) about the IRIS Program. By having a docket for general comments, stakeholders will no longer have to submit the same general comment to individual chemical dockets that are established for each IRIS assessment.

III. Future Notifications on the Availability of Draft IRIS Assessments for Public Comment

In order to provide information to stakeholders in a timely and efficient manner, the IRIS Program has considered methods of more effectively communicating information to the public. As a result of these efforts, EPA will now announce public comment periods, docket numbers, and information on the availability of draft IRIS assessments, solely on the IRIS Web site (http://www.epa.gov/iris). EPA will no longer announce the availability of draft IRIS assessments for public comment in the Federal Register. This change only applies to assessments released by the IRIS Program for comment and discussion at future IRIS public science meetings and does not apply to external peer review draft IRIS assessments managed by EPA's Science Advisory Board (SAB) Staff Office. For more information on the IRIS Program, including registering for the Human Health Risk Assessment (HHRA) and IRIS Bulletin listservs, visit the IRIS Web site: http://www.epa.gov/iris.

IV. How To Submit Comments to the Docket at www.regulations.gov

EPA invites the public to submit comments and other relevant information regarding the IRIS program and processes to the General Docket. Submit your comments, identified by Docket ID No. EPA-HQ-ORD-2014-0211, by one of the following methods:

• www.regulations.gov: Follow the on-line instructions for submitting comments.

• Email: Docket_ORD@epa.gov.

• Fax: 202-566-9744.

• Mail: U.S. Environmental Protection Agency, EPA Docket Center (ORD Docket), Mail Code: 28221T, 1200 Pennsylvania Avenue NW., Washington, DC 20460. The phone number is 202-566-1752.

• Hand Delivery: The ORD Docket is located in the EPA Headquarters Docket Center, EPA West Building, Room 3334, 1301 Constitution Avenue NW., Washington, DC.

The EPA Docket Center Public Reading Room is open from 8:30 a.m. to 4:30 p.m., Monday through Friday, excluding legal holidays. The telephone number for the Public Reading Room is 202-566-1744. Deliveries are only accepted during the docket's normal hours of operation, and special arrangements should be made for deliveries of boxed information. If you provide comments by mail or hand delivery, please submit three copies of the comments. For attachments, provide an index, number pages consecutively with the comments, and submit an unbound original and three copies.

Instructions: Direct your comments to Docket ID No. EPA-HQ-ORD-2014-0211. It is EPA's policy to include all comments it receives in the public docket without change and to make the comments available online at www.regulations.gov, including any personal information provided, unless a comment includes information claimed to be Confidential Business Information (CBI) or other information whose disclosure is restricted by statute. Do not submit information through www.regulations.gov or email information that you consider to be CBI or otherwise protected. The www.regulations.gov Web site is an “anonymous access” system, which means EPA will not know your identity or contact information unless you provide it in the body of your comment. If you send an email comment directly to EPA without going through www.regulations.gov, your email address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses. For additional information about EPA's public docket visit the EPA Docket Center homepage at www.epa.gov/epahome/dockets.htm.

Docket: Documents in the docket are listed in the www.regulations.gov index. Although listed in the index, some information is not publicly available, e.g., CBI or other information whose disclosure is restricted by statute. Certain other materials, such as copyrighted material, are publicly available only in hard copy. Publicly available docket materials are available either electronically in www.regulations.gov or in hard copy at the ORD Docket in the EPA Headquarters Docket Center.

Dated: March 16, 2016.
Mary A. Ross,
Deputy Director, National Center for Environmental Assessment.

[FR Doc. 2016-07181 Filed 3-30-16; 8:45 am]

BILLING CODE 6560-50-P